DEPARTMENT OF ENERGY

Federal Energy Regulatory Commission

[Docket No. ER06-1443-001]

FirstEnergy Service Company, Pennsylvania Power Company, Metropolitan Edison Company, Pennsylvania Electric Company, Cleveland Electric Illuminating Company, Ohio Edison Company, The Toledo Electric Company; Notice of Shortened Comment Period

September 26, 2006.

On September 25, 2006, the Commission issued a notice in the above-captioned proceeding. Combined Notice of Filings #1, September 25, 2006. The comment date on the notice is Wednesday, October 11, 2006. The Commission's staff has requested a shortened comment period. By this notice, the date for filing comments is shortened to Monday, October 2, 2006.

Magalie R. Salas,
Secretary.

[FR Doc. E6-16146 Filed 9-29-06; 8:45 am]

BILLING CODE 6717-01-P